DEPARTMENT OF THE INTERIOR

Bureau of Land Management

[LLORV00400.L16100000.MQ0000.19X.HAG 19-0114]

Notice of Intent To Prepare the Louse Canyon Geographic Management Area Rangeland Health Management Actions Environmental Impact Statement To Analyze Rangeland Health Management Actions in the Louse Canyon Geographic Management Area of the Malheur Field Office, Vale District, Oregon

AGENCY: Bureau of Land Management, Interior.

ACTION: Notice of Intent.

SUMMARY: In compliance with the National Environmental Policy Act of 1969, as amended (NEPA), and the Federal Land Policy and Management Act of 1976, as amended, the Bureau of Land Management (BLM) Malheur Field Office, Vale District, Vale, Oregon, intends to prepare an environmental impact statement (EIS) and, by this notice, is announcing the beginning of the public scoping period for the analysis of rangeland health management actions in the Louse Canyon Geographic Management Area (LCGMA).

DATES: The BLM requests that comments be submitted by October 15, 2019. The date(s) and location(s) of any scoping meeting(s) will be announced at least 15 days in advance through local media and the BLM website, www.blm.gov.

ADDRESSES: You may submit comments by any of the following methods:

• Website: https://go.usa.gov/xQeac.

• Email: BLM_OR_VL_Louse_Canyon_GMA@blm.gov.

• Fax: 541-473-6213.

• Mail: LCGMA, c/o Vale District BLM 100 Oregon Street, Vale, OR 97918. Attention: Todd Allai or Dustin Fowler.

Documents associated with this proposal are available at the Malheur Field Office, BLM Vale District Office, 100 Oregon Street, Vale, OR 97918, or at https://go.usa.gov/xQeac.

FOR FURTHER INFORMATION CONTACT: Project leads Todd Allai, 541-473-6355, or Dustin Fowler, 541-473-6250, via phone or via email at: BLM_OR_VL_Louse_Canyon_GMA@blm.gov. Please contact Mr. Allai or Mr. Fowler to have your name added to the project mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM Vale District is initiating an EIS in order to analyze alternative livestock management and restoration actions that would allow the district to make progress toward meeting Oregon/Washington (OR/WA) Standards for Rangeland Health and Guidelines for Livestock Grazing Management (Standards and Guidelines) in the LCGMA. The alternatives will consider grazing practices, permit renewals, and the implementation of rangeland restoration and rangeland improvement projects. Proposed rangeland management actions include: Alternative grazing systems and schedules, upland sagebrush habitat restoration, and riparian habitat restoration.

The LCGMA is comprised of five grazing allotments (536,434 acres) in Malheur County, Oregon, and two grazing allotments (11,262 acres) in Humboldt County, Nevada. The Greater Sage-grouse Approved Resource Management Plan Amendment and Record of Decision for Oregon identified the entire planning area as habitat for Greater Sage-grouse. Seventy-four percent of the planning area is identified as priority habitat, and the remaining twenty-six percent of the planning area is classified as general habitat. Approximately twenty percent of the LCGMA was impacted by the 2012 Long Draw fire.

An OR/WA Standards and Guidelines evaluation of the area was completed in 2018 and can be found at https://go.usa.gov/xQeac. The evaluation determined that certain OR/WA Standards and Guidelines are not being met within the LCGMA. Preliminary determinations of causal factors in not meeting standards identify wildfire and invasive annual grass species as likely significant causal factors for not meeting or making progress toward upland-related standards. Existing permitted livestock grazing is identified as a likely significant causal factor for not meeting or making progress toward meeting riparian and aquatic habitat-related standards. The BLM is proposing to analyze actions that support proper livestock grazing management practices and improve the ecological condition of the LCGMA to address making progress toward attainment of OR/WA Standards and Guidelines.

Through the public scoping process, the BLM is seeking input on issues, actions, and alternatives that should be addressed by the EIS. Potential issues include the effects of proposed management actions on: Livestock grazing, the spread of invasive species, the threat of wildfire, sagebrush ecosystems health, and Greater Sage-grouse habitat. Potential management actions include: Alternative grazing systems and schedules, upland sagebrush habitat restoration actions (invasive annual grass treatments, soil stabilization, native vegetation species diversification, shrub establishment, sagebrush thinning, and targeted grazing), riparian/meadow habitat restoration actions (erosion and water-related flow control structures and watering trough relocation), and livestock administration actions (fence construction, water developments, livestock trailing, and modifications to livestock range improvements).

The Malheur Field Office will consult with the McDermitt Shoshone-Paiute Tribe, Shoshone-Paiute Tribes of the Duck Valley Indian Reservation, Shoshone-Bannock Tribes of the Fort Hall Indian Reservation, and the Burns-Paiute Tribe throughout the EIS process. Federal, State, and local agencies, along with other stakeholders that may be interested or affected by the proposal, are invited to participate in the scoping process and, if eligible, may request or be requested by the BLM to participate as a cooperating agency. The BLM will coordinate with Federal, State, and local officials and the affected grazing permittees throughout the EIS process.

Comments can be submitted to the BLM using one of the methods listed in the ADDRESSES section of this notice. Comments received will help the BLM determine the scope and breadth of the EIS. To be most helpful, please submit comments by the close of the 30-day scoping period or within 15 days after the last public meeting—whichever is later. Before including your address, phone number, email address, or other personal identifying information in your comment, you should be aware that your entire comment—including your personal identifying information—may be made publicly available at any time. While you can ask us in your comment to withhold your personal identifying information from public review, we cannot guarantee that we will be able to do so.

The BLM will use an interdisciplinary approach to develop the EIS. Specialists with expertise in the following disciplines will be involved in the planning process: Range management, wildlife biology, archaeology, hydrology and riparian resources, botany, soil science, economics, and outdoor recreation.

Authority: 40 CFR 1501.7 and 43 CFR 1610.2.

Theresa M. Hanley,
Acting State Director, Oregon/Washington.

[FR Doc. 2019-19870 Filed 9-12-19; 8:45 am]

BILLING CODE 4310-33-P